DEPARTMENT OF LABOR

Employment and Training Administration

[TA-W-58,569]

OBG Distribution Company, Ltd., Celina, TN; Notice of Negative Determination on Reconsideration

On April 14, 2006, the Department issued an Affirmative Determination Regarding Application for Reconsideration for the workers and former workers of the subject firm. The notice was published in the Federal Register on April 24, 2006 (71 FR 21043).

The petition for the workers of OBG Distribution Company, Ltd., Celina, Tennessee engaged in laundry research and development services on various pieces of fabric swatches for apparel was denied because the petitioning workers did not produce an article within the meaning of section 222 of the Act.

The company official filed a request for reconsideration in which the petitioner provided additional information regarding the interpretation of work performed at the subject facility and further conveyed that workers of the subject firm produced a domestic article through a wash process that “must be approved before manufacturing facilities can produce garments for production.” The petitioner further outlines the stages of the research and development process of developing the laundering standards and samples for the manufacturing facilities. The petitioner concludes that because the subject firm is responsible for developing Quality Standards for OshKosh production facilities and workers physically perform cutting and laundering of samples and swatches, workers of the subject firm should be considered engaged in production of articles.

A company official was contacted for clarification in regard to the nature of the work performed at the subject facility. The official stated that there was no actual production at the subject firm during the relevant time period. The workers developed “shade cards and shade legs” through laundering techniques, which showed future garment shade and finish. These swatches were used as samples in garment laundering by the off-shore laundry facilities. The official further stated workers of the subject firm establish quality standards for all products manufactured with OshKosh B'Gosh brand name, inspect the off-shore sewing and laundry contractors who produce apparel, perform Laundry research and development, through testing and establishing laundry finishing standards and procedures, the process which involves cutting and sewing of fabric swatches.

The sophistication of the work involved is not an issue in ascertaining whether the petitioning workers are eligible for trade adjustment assistance, but rather only whether they produced an article within the meaning of section 222 of the Trade Act of 1974.

The investigation on reconsideration revealed that workers of OBG Distribution Company, Ltd., Celina, Tennessee do not produce articles, but rather support production of articles at other affiliated facilities. Establishing quality standards for garment manufacturing is not considered production of an article within the meaning of section 222 of the Trade Act of 1974. Cutting and sewing of fabric at the subject firm is incidental to the research and development process of the laundering techniques, which occurs at the subject facility. Workers of the subject firm do not produce an article, but rather support production of articles. Furthermore, all production of articles that workers of the subject firm support occurs at foreign facilities, thus workers of the subject firm support off-shore production.

The investigation on reconsideration supported the findings of the primary investigation that the petitioning group of workers did not produce an article.

Conclusion

After reconsideration, I affirm the original notice of negative determination of eligibility to apply for worker adjustment assistance for workers and former workers of OBG Distribution Company, Ltd., Celina, Tennessee.

Signed at Washington, DC this 11th day of May, 2006.
Elliott S. Kushner
Certifying Officer, Division of Trade Adjustment Assistance.

[FR Doc. E6-7611 Filed 5-18-06; 8:45 am]

BILLING CODE 4510-30-P